DEPARTMENT OF THE INTERIOR

Bureau of Ocean Energy Management

[Docket No. BOEM-2023-0061]

Notice of Intent To Prepare a Programmatic Environmental Impact Statement for Future Floating Wind Energy Development Related to 2023 Leased Areas Offshore California

AGENCY: Bureau of Ocean Energy Management, Interior.

ACTION: Notice of intent (NOI) to prepare a programmatic environmental impact statement (PEIS); request for comments.

SUMMARY: Consistent with the regulations implementing the National Environmental Policy Act (NEPA), BOEM announces its intent to prepare a PEIS to analyze the potential impacts of floating offshore wind energy development on the five leased areas offshore Humboldt and Morro Bay, California. The PEIS also will identify programmatic protective mitigation measures that if adopted could lessen those impacts. This NOI announces the scoping process BOEM will use to identify significant issues and potential alternatives for consideration in the California offshore wind (OSW) PEIS.

DATES: Comments are due to BOEM by February 20, 2024.

BOEM will hold two virtual public scoping meetings for the California OSW PEIS.

Tentative dates:

Tuesday, February 6, 2024; and

Thursday, February 8, 2024.

Please go to https://www.boem.gov/california for meeting dates, times, and registration. Meetings are open to the public and free to attend. Pre-registration is not required to attend.

ADDRESSES: Comments can be submitted in the following ways:

• By mail or delivery service: Send comments in an envelope labeled, “CALIFORNIA OSW PEIS” and addressed to Chief, Environmental Assessment Section, Office of Environment, Bureau of Ocean Energy Management, 760 Paseo Camarillo, Suite 102, Camarillo, California 93010; or

• Through the regulations.gov web portal: Navigate to https://www.regulations.gov and search for Docket No. BOEM-2023-0061. Select the document in the search results on which you want to comment, click on the “Comment” button, and follow the online instructions for submitting your comment. A commenter's checklist is available on the comment web page. Enter your information and comment, then click “Submit.”

Detailed information regarding the California OSW PEIS can be found on BOEM's website at: https://www.boem.gov/california.

For more information about submitting comments, see “Comments” section under SUPPLEMENTARY INFORMATION caption.

FOR FURTHER INFORMATION CONTACT: Lisa Gilbane, BOEM Pacific Region Office of Environment, 760 Paseo Camarillo, Suite 102, Camarillo, California 93010, telephone (805) 384-6387, or email lisa.gilbane@boem.gov.

SUPPLEMENTARY INFORMATION: In December 2022, through a competitive leasing process under 30 CFR 585.211, BOEM auctioned Renewable Energy Leases OCS-P 0561, 0562, 0563, 0564, and 0565 offshore California. These leases total over 373,000 acres. These are the first wind energy leases offshore California and are anticipated to be commercially developed with floating foundations in waters from 500 to 1,300 meters deep. Three of the leases are offshore central California, near Morro Bay. The other two leases are offshore northern California, near Humboldt Bay. All leases grant the lessees the exclusive right to submit construction and operation plans (COPs) to BOEM proposing the construction, operation, and conceptual decommissioning of offshore wind energy facilities in the lease areas. BOEM identified these lease areas through an extensive data-gathering and engagement process that included the BOEM California Intergovernmental Renewable Energy Task Force, comprised of the State of California, numerous Tribal Nations, Federal agencies, and local governments.

The PEIS will analyze the potential impacts of wind energy development in the five lease areas offshore California and consider measures that can be taken to avoid or reduce those impacts. The PEIS proposed action is the identification of programmatic mitigation measures ¹ to lessen environmental impacts of wind energy development in the lease areas. BOEM may require mitigation measures as conditions of approval for activities proposed by lessees in their COPs. These measures may include the avoidance, minimization, mitigation, and monitoring (AMMM) measures previously used by BOEM in prior offshore wind energy project documents.

¹ See 40 CFR 1508.1(s) for the definition of “mitigation.”

BOEM may require all, some, or additional mitigation measures before approving a specific COP if its environmental analysis warrants. The PEIS will neither analyze a specific COP nor result in the approval of any construction and operation activities.

Purpose of and Need for the Proposed Action

The purpose of the Proposed Action is to identify, analyze, and adopt, as appropriate, potential mitigation measures to be applied to the five California leases issued in 2023 in the event a COP is approved and identify minor or negligible impacts so that site-specific reviews can focus on moderate or major impacts and analyze regional cumulative impacts. This approach will allow BOEM to focus subsequent site- and project-specific environmental analyses and consultations on the unique impacts of individual proposed wind energy projects and on cumulative regional impacts. These subsequent analyses and consultations will identify the AMMM measures that are best suited for an individual project. Lessees also may incorporate mitigation measures into their proposed COPs. Project-specific environmental analysis under NEPA for individual project COPs may tier to or incorporate by reference this PEIS.

These steps will help BOEM make timely decisions on COPs submitted by lessees for the Humboldt and Morro Bay lease areas. Timely decisions further the United States' policy to make Outer Continental Shelf energy resources available for expeditious and orderly development, subject to environmental safeguards (43 U.S.C. 1332(3)) and other requirements listed at 43 U.S.C. 1337(p)(4). Wind energy development on the leaseholds will assist with meeting Federal and State renewable energy goals, including the Federal Government's goals of deploying 30 gigawatts (GW) of offshore wind energy capacity by 2030 and 15 GW of floating offshore wind capacity by 2035, and California's goal of 2-5 GW of offshore wind energy generation by 2030.

Proposed Action and Preliminary Alternatives

As noted above, the Proposed Action is the adoption of programmatic mitigation measures that lessees may incorporate or that BOEM may require as conditions of approval in COPs submitted for the California leases. The Proposed Action does not include the approval of any activity, nor does it require any specific action by BOEM or lessees. BOEM may require additional or modified measures based on subsequent site-specific NEPA analysis or the parameters of specific COPs. The analysis of the Proposed Action considers the change in potential impacts resulting from the application of mitigation measures. For purposes of the analysis, BOEM is creating a hypothetical development scenario based on a representative project design envelope. The National Renewable Energy Lab created this design envelope with the input of the lessees that will be submitting the COPs for the California leases.

The PEIS will also include analysis of a no action alternative, which will evaluate the potential impacts of no development of the five lease areas offshore California. The no action alternative will include context that can be used in COP-specific NEPA analyses as a baseline against which proposed actions described in a COP may be compared.

The draft PEIS will also include an alternative that analyzes the impacts of not adopting the programmatic mitigation measures for a representative project offshore California. This alternative will facilitate comparison of the potential impacts from a hypothetical development scenario, developed with input from California lessees, with and without the mitigation measures. This scenario will have a range of parameters that encompasses the technical aspects expected in the potential future COPs. In addition, this alternative will provide analyses that can be incorporated in the COP-specific NEPA analysis, as appropriate, to allow more attention on issues particular to the specific COP.

BOEM also may evaluate additional reasonable alternatives to the Proposed Action identified during the scoping period.

Summary of Potential Impacts

Potential impacts to resources may include adverse or beneficial impacts on air quality, bats, benthic habitat, birds, essential fish habitat, invertebrates, finfish, marine mammals, terrestrial and coastal habitats and fauna, sea turtles, wetlands and other waters of the United States, commercial fisheries and recreational fishing, cultural resources, demographics, employment, economics, environmental justice, land use and coastal infrastructure, navigation and vessel traffic, other marine uses, recreation and tourism, and scenic and visual resources. These potential impacts will be analyzed in the draft and final PEIS.

Based on a preliminary evaluation of these resources, BOEM estimates that potential impacts may occur on certain marine life from underwater noise caused by construction and on marine mammals from collisions with project-related vessel traffic. Structures installed by the projects could permanently change benthic and fish habitats. Commercial fisheries (including Tribal fisheries) and recreational fishing could be impacted. Project structures above the water could affect the visual character defining historic properties, properties of traditional religious and cultural significance, and recreational and tourism areas. Project structures may also pose an allision hazard to vessels. Additionally, the projects could create space-use conflicts with military activities, air traffic, land-based radar services, cables, and scientific surveys. Beneficial impacts are also expected, including the creation of new habitat, job creation, and the potential reduction in carbon emissions when renewable energy replaces carbon-based energy generation.

Anticipated Authorizations and Consultations

Neither the PEIS nor the resulting programmatic record of decision (ROD) will authorize any activities or approve any plans submitted by any lessee. The PEIS and ROD will provide a regional environmental analysis and framework to support future decision-making on individual COPs. When COPs are submitted to BOEM, BOEM will evaluate the site-specific project impacts by preparing additional environmental analyses that may tier from this PEIS or may incorporate it by reference. Based on the site-specific analyses, BOEM may approve, approve with modifications, or disapprove individual COPs. Neither this PEIS nor its associated ROD will result in a final agency action approving individual COPs.

In conjunction with this PEIS, BOEM may undertake various consultations in accordance with applicable Federal laws, such as the Endangered Species Act, Magnuson‐Stevens Fishery Conservation and Management Act, National Historic Preservation Act (NHPA), Marine Mammal Protection Act, Rivers and Harbors Act, Clean Water Act, and the Coastal Zone Management Act. However, BOEM may determine that some of these consultations are better suited for the COP-specific analyses. BOEM will also invite Tribal government-to-government consultations.

Decision-Making Schedule

BOEM currently expects to publish the draft PEIS for public comment in September 2024. After the public comment period ends, BOEM will review and respond to the comments and will develop the final PEIS. BOEM currently expects to make the final PEIS available to the public in December 2025. BOEM will issue a ROD no sooner than 30 days after the final PEIS is made available.

The ROD is expected to (1) identify certain programmatic mitigation measures that BOEM may require, if appropriate, as conditions of approval for COPs submitted on these five California leases, (2) identify the mitigation measures that are better analyzed and considered in a COP-specific NEPA analysis, and (3) allow BOEM to use a tiered review process that relies on the PEIS analyses for the COPs submitted on these five California leases.

Scoping Process: This NOI commences the public scoping process to identify issues and potential alternatives for consideration in this PEIS. Please visit https://www.boem.gov/california for virtual meeting locations, dates, times, and registration information. The scoping process provides the public, Federal agencies, and Tribal, State, and local governments with the opportunity to help BOEM identify resources, issues, impacts, possible mitigation measures (e.g., project size, geographic location, facility siting, and seasonal or other restrictions on construction), and reasonable alternatives to consider in the PEIS analysis.

BOEM will also use the NEPA process to comply with public participation requirements under section 106 of the NHPA (54 U.S.C. 300101 et seq.), as permitted by 36 CFR 800.2(d)(3). Through this notice, BOEM seeks public comment and input regarding the historic properties potentially affected by and the potential effects on those properties from activities associated with approval of wind energy development under these five leases offshore California. Information on cultural resources will help BOEM identify and evaluate impacts from the placement, development, and operation of offshore wind energy.

NEPA Cooperating Agencies: BOEM invites other Federal agencies and Tribal, State, and local governments to consider becoming cooperating agencies in the preparation of this PEIS. The Council on Environmental Quality (CEQ) NEPA regulations specify that qualified cooperating agencies are those with “jurisdiction by law or special expertise” over potential environmental impacts of a proposed project. See 40 CFR 1508.1(e). Potential cooperating agencies should consider their authority and capacity to assume the responsibilities of a cooperating agency. A cooperating agency's role in the environmental analysis neither enlarges nor diminishes the final decision-making authority of any other agency involved in the NEPA process.

Upon request, BOEM will provide potential cooperating agencies with a written summary of expectations for cooperating agencies, including schedules, milestones, responsibilities, scope and detail of cooperating agencies' expected contributions, and availability of pre-decisional information. BOEM anticipates this summary will form the basis for a memorandum of agreement between BOEM and any non-Department of the Interior cooperating agency. Agencies also should consider the factors for determining cooperating agency status in the CEQ memorandum entitled “Cooperating Agencies in Implementing the Procedural Requirements of the National Environmental Policy Act,” dated January 30, 2002. This document is available on the internet at: https://www.energy.gov/sites/prod/files/nepapub/nepa_documents/RedDont/G-CEQ-CoopAgenciesImplem.pdf.

BOEM does not typically provide financial assistance to cooperating agencies. Governmental entities that are not cooperating agencies will have opportunities to provide information and comments to BOEM during the public input stages of the NEPA process.

Comments: Federal agencies; Tribal, State, and local governments; and other interested parties are requested to comment on the scope of this PEIS, significant issues that should be addressed, and reasonable alternatives that should be considered. For information on how to submit comments, see the ADDRESSES section above.

Personally Identifiable Information (PII): BOEM discourages anonymous comments. Please include your name with your comment. You should be aware that your entire comment, including your name and any other PII included in your comment, may be made publicly available. All comments from individuals, businesses, and organizations will be available for public viewing one regulations.gov.

Individuals can request that BOEM withhold their names, addresses, or other PII included in their comment from the public record. However, BOEM cannot guarantee that it will be able to do so. To help BOEM determine whether to withhold your PII from disclosure, you must identify in a cover letter any information contained in your comments that, if released, would constitute a clearly unwarranted invasion of your privacy. You also must briefly describe any possible harmful consequences of the disclosure of information, such as embarrassment, injury, or other harm. Even if BOEM withholds your information in the context of this notice, your submission is subject to the Freedom of Information Act (FOIA). If your submission is requested under FOIA, your information will only be withheld if a determination is made that one of FOIA's exemptions to disclosure applies. Such a determination will be made in accordance with the Department's FOIA regulations and applicable law.

Additionally, under section 304 of the NHPA, BOEM is required, after consultation with the Secretary of the Interior, to withhold the location, character, or ownership of historic resources if it determines that disclosure may, among other things, risk harm to the historic resources or impede the use of a traditional religious site by practitioners. Tribal entities and other parties providing information on historic resources should designate information that falls under section 304 of the NHPA as confidential and provide their reasons.

All submissions from organizations or businesses and from individuals identifying themselves as representatives or officials of organizations or businesses will be made available for public inspection in their entirety.

Request for Identification of Potential Alternatives, Information, and Analyses Relevant to the Proposed Action

BOEM requests data, comments, information, analysis, alternatives, or suggestions relevant to the analysis of the Proposed Action from the public; affected Federal, Tribal, State, and local governments, agencies, and offices; the scientific community; industry; or any other interested party. Specifically, BOEM requests information on the following topics:

1. Potential programmatic mitigation measures, including wind energy development alternatives offshore California, and the effects these could have on:

• Biological resources, including bats, birds, coastal fauna, finfish, invertebrates, essential fish habitat, marine mammals, and sea turtles;

• Physical resources and conditions including air quality, water quality, and other waters of the United States;

• Socioeconomic and cultural resources, including any resources of concern to Tribal Nations, commercial fisheries and recreational fishing, demographics, employment, economics, environmental justice, land use and coastal infrastructure, navigation and vessel traffic, other uses (marine minerals, military use, aviation), recreation and tourism, and scenic and visual resources, specifically if further visual analyses beyond the existing 2019 California visual simulations (see https://www.boem.gov/california) could sufficiently inform potential programmatic mitigation measures without the site-specific project information that would be available to BOEM when it undertakes further viewshed analysis at the construction and operations review phase.

2. Information on other current or planned activities in, or in the vicinity of, the five California wind energy lease areas under analysis.

3. Possible alternatives and the alternatives' possible impacts on planned activities.

4. Other impacts on the human environment from California wind energy development in the five lease areas, including any mitigation measures.

5. Information on the following for the development of the representative project design envelope and activities scenario: layout of turbines (analyze one or more standard layouts); setbacks identified in the leases; size (wind turbine generator nameplate capacity), dimensions (tip height, hub height, and rotor diameter) and number of turbines; offshore substation type, dimensions, number, and location; type of foundation or mooring design; foundation or mooring installation method; scour protection; approach to cable emplacement (installation methods and disturbance corridor width); location of landfalls; onshore substation location; point of grid interconnection; ports, fabrication facilities, and staging areas; timing of onshore and offshore activities; and associated activities such as vessel trips.

6. BOEM also seeks comment and input from the public and consulting parties under section 106 of the NHPA regarding the identification of other potential consulting parties, the identification of historic properties offshore California, the potential effects on those historic properties from California offshore wind energy development alternatives, including any mitigation measures, and any information that supports identification of historic properties under NHPA.

To promote informed decision-making, comments should be as specific as possible and should provide as much detail as necessary to meaningfully and fully inform BOEM of the commenter's position. Comments must explain why the issues raised are important for consideration in the analysis. The draft PEIS will include a summary of all alternatives, information, and analyses submitted during this scoping process.

Authority: 42 U.S.C. 4321 et seq., and 40 CFR 1501.9.

Douglas Boren,
Pacific Regional Director, Bureau of Ocean Energy Management.

[FR Doc. 2023-27930 Filed 12-19-23; 8:45 am]

BILLING CODE 4340-98-P